DEPARTMENT OF ENERGY

Federal Energy Regulatory Commission

Combined Notice of Filings #2

Take notice that the Commission received the following electric corporate filings:

Docket Numbers: EC14-78-002.

Applicants: NRG Energy, Inc., NRG Yield, Inc.

Description: Request for Amended Blanket Authorization of NRG Energy, Inc., et al.

Filed Date: 5/20/15.

Accession Number: 20150520-5133.

Comments Due: 5 p.m. ET 6/10/15.

Docket Numbers: EC15-143-000.

Applicants: La Paloma Generating Company, LLC.

Description: Application for Authorization for Disposition of Jurisdictional Facilities and Request for an Abbreviated Comment Period and Expedited Action of La Paloma Generating Company, LLC.

Filed Date: 5/20/15.

Accession Number: 20150520-5128.

Comments Due: 5 p.m. ET 6/10/15.

Take notice that the Commission received the following electric rate filings:

Docket Numbers: ER14-2952-003.

Applicants: Midcontinent Independent System Operator, Inc.

Description: Compliance filing per 35: 2015-05-20_SSR Cost Allocation Compliance Filing to be effective 4/3/2014.

Filed Date: 5/20/15.

Accession Number: 20150520-5167.

Comments Due: 5 p.m. ET 6/10/15.

Docket Numbers: ER15-518-002.

Applicants: Duke Energy Progress, Inc., Duke Energy Florida, Inc., Duke Energy Carolinas, LLC.

Description: Compliance filing per 35: Order 676-H Compliance Filing and Waiver Request (2nd Update) to be effective 5/15/2015.

Filed Date: 5/20/15.

Accession Number: 20150520-5176.

Comments Due: 5 p.m. ET 6/10/15.

Docket Numbers: ER15-767-002.

Applicants: Midcontinent Independent System Operator, Inc.

Description: Compliance filing per 35: 2015-05-20_Schedule 43I White Pine 2 Compliance Filing to be effective 1/1/2015.

Filed Date: 5/20/15.

Accession Number: 20150520-5183.

Comments Due: 5 p.m. ET 6/10/15.

Docket Numbers: ER15-1755-000.

Applicants: Arizona Public Service Company.

Description: Section 205(d) rate filing per 35.13(a)(2)(iii): Rate Schedule No. 278, North Gila 500kV Switchyard Interconnection Agreement to be effective 5/21/2015.

Filed Date: 5/20/15.

Accession Number: 20150520-5200.

Comments Due: 5 p.m. ET 6/10/15.

Docket Numbers: ER15-1756-000.

Applicants: Arizona Public Service Company.

Description: Section 205(d) rate filing per 35.13(a)(2)(iii): Rate Schedule No. 279, ANPP High Voltage Switchyard Interconnection Agreement to be effective 5/21/2015.

Filed Date: 5/20/15.

Accession Number: 20150520-5203.

Comments Due: 5 p.m. ET 6/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2015.
Nathaniel J. Davis, Sr.,
Deputy Secretary.

[FR Doc. 2015-12697 Filed 5-26-15; 8:45 am]

BILLING CODE 6717-01-P